DEPARTMENT OF ENERGY

Bonneville Power Administration

BPA File No.: Hot Springs to Anaconda Transmission Line Rebuild (DOE/EIS 0502) Bonneville Power Administration Hot Springs to Anaconda Transmission Line Rebuild Environmental Impact Statement (EIS) Termination

AGENCY: Bonneville Power Administration (BPA), Department of Energy (DOE).

ACTION: Notice of intent to terminate preparation of an Environmental Impact Statement (EIS).

SUMMARY: This notice advises the public that BPA is terminating the preparation of the Hot Springs to Anaconda Transmission Line Rebuild Project EIS (DOE/EIS-0502) that was announced in the Notice of Intent in the Federal Register on July 11, 2014. This EIS was considering BPA's decision whether to rebuild the Hot Springs to Rattlesnake, Rattlesnake to Garrison, and Garrison to Anaconda (collectively Hot Springs to Anaconda) 230-kilovolt (kV) transmission lines. BPA sold the Garrison to Anaconda line and the rebuild design of the remaining two lines has changed since the 2014 Notice of Intent (NOI). In the future, BPA will consider rebuild of the remaining two transmission lines upon redesign.

FOR FURTHER INFORMATION CONTACT: Doug Corkran, Environmental Protection Specialist, Bonneville Power Administration—ECT-4, P.O. Box 3621, Portland, Oregon 97208-3621; toll-free telephone 1-800-282-3713; direct telephone 503-230-7646; or email dfcorkran@bpa.gov or Cynthia Rounds, Project Manager, Bonneville Power Administration—TPP-1, P.O. Box 61409, Vancouver, WA 98666-1409; toll-free telephone number 1-800-282-3713; email cmrounds@bpa.gov. Additional information can be found at the project website: https://www.bpa.gov/learn-and-participate/public-involvement-decisions/project-reviews/hot-springs-to-anaconda-transmission-line-rebuild-project-doe-eis-0502.

SUPPLEMENTARY INFORMATION: An NOI was published in the Federal Register on July 11, 2014, (79 FR 40094) to begin preparing an EIS for the Hot Springs to Anaconda Transmission Line Rebuild Project. BPA solicited public comments under the Council on Environmental Quality's NEPA Implementing Regulations (40 CFR 1501.9). Because of changes to the project design and the sale of one of the three lines included in the original project, the EIS is being terminated in accordance with 40 CFR 1506.6 and 40 CFR 1506.10.

Signing Authority: This document of the Department of Energy was signed on September 26, 2022, by John Hairston, Administrator and Chief Executive Officer of the Bonneville Power Administration, pursuant to delegated authority from the Secretary of Energy. That document with the original signature and date is maintained by the Department of Energy. For administrative purposes only, and in compliance with requirements of the Office of the Federal Register, the undersigned Department of Energy Federal Register Liaison Officer has been authorized to sign and submit the document in electronic format for publication, as an official document of the Department of Energy. This administrative process in no way alters the legal effect of this document upon publication in the Federal Register.

Signed in Washington, DC, on October 4, 2022.
Treena V. Garrett,
Federal Register Liaison Officer, U.S. Department of Energy.

[FR Doc. 2022-21958 Filed 10-7-22; 8:45 am]

BILLING CODE 6450-01-P